DEPARTMENT OF COMMERCE

International Trade Administration

[A-570-910]

Circular Welded Carbon Quality Steel Pipe From the People's Republic of China: Notice of Rescission of Antidumping Duty Administrative Review

AGENCY: Import Administration, International Trade Administration, Department of Commerce.

SUMMARY: On August 25, 2009, the U.S. Department of Commerce (“the Department”) published a notice of initiation of an administrative review of the antidumping duty order on circular welded carbon quality steel pipe (“CWP”) from the People's Republic of China (“PRC”). The review covers 14 producers/exporters of CWP from the PRC. Based on the withdrawals of all requests for review, we are now rescinding this administrative review in full.

DATES: Effective Date: November 4, 2009.

FOR FURTHER INFORMATION CONTACT: Thomas Martin, AD/CVD Operations, Office 4, Import Administration, International Trade Administration, U.S. Department of Commerce, 14th Street and Constitution Avenue, NW., Washington, DC 20230; telephone (202) 482-3936.

SUPPLEMENTARY INFORMATION:

Background

On August 25, 2009, the Department published a notice of initiation of an administrative review of the antidumping duty order on CWP from the PRC covering the period, January 15, 2008—June 30, 2009. See Initiation of Antidumping and Countervailing Duty Administrative Reviews and Request for Revocation in Part, 74 FR 42873 (August 25, 2009) (“Initiation”). On September 30, 2009, Allied Tube & Conduit, Sharon Tube Company, IPSCO Tubulars, Inc., Western Tube & Conduit Corporation, Northwest Pipe Company, Wheatland Tube Co., i.e., the Ad Hoc Coalition For Fair Pipe Imports From China (collectively known as, “Petitioners”) withdrew their request for a review of the following 13 companies: Baoshan Iron & Steel Co., Ltd., Jiangsu Yulong Steel Pipe Co., Ltd., Liaoning Northern Steel Pipe Co., Ltd., Hunan Hengyang Steel Tube (Group) Co., Ltd., CNOOC Kingland Pipeline Co., Ltd., Jiangsu Changbao Steel Tube Co., Ltd., Wuxi Fastube Industry Co., Ltd., Weifang East Steel Pipe Co., Ltd., Tianjin Shuangjie Steel Pipe Co., Ltd., Zhejiang Kingland Pipeline Industry Co., Ltd., SteelFORCE Far East Ltd., Tianjin Baolai International Trade Co., Ltd., and Shanghai Zhongyou TIPO Steel Pipe Co., Ltd. Petitioners were the only party to request a review of these companies. On October 5, 2009, Sino Link SCS (Asia) Limited (“Sino Link”) withdrew its own request for a review.

Rescission of Antidumping Administrative Review

Pursuant to 19 CFR 351.213(d)(1), the Secretary will rescind an administrative review under this section, in whole or in part, if a party that requested a review withdraws the request within 90 days of the date of publication of notice of initiation of the requested review. Because Petitioners and Sino Link submitted their requests to rescind the administrative review within 90 days of the date of publication of the notice of initiation, the Department is rescinding this review in accordance with 19 CFR 351.213(d)(1).

Assessment Instructions

The Department will instruct U.S. Customs and Border Protection (“CBP”) to assess antidumping duties on all appropriate entries. For companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: October 29, 2009.
John M. Andersen,
Acting Deputy Assistant Secretary for Antidumping and Countervailing Duty Operations.

[FR Doc. E9-26556 Filed 11-3-09; 8:45 am]

BILLING CODE 3510-DS-P